ENVIRONMENTAL PROTECTION AGENCY

40 CFR Part 300

[EPA-HQ-SFUND-1990-0011; FRL-9983-84—Region 5]

National Oil and Hazardous Substances Pollution Contingency Plan National Priorities List: Partial Deletion of the Beloit Corporation Superfund Site

AGENCY: Environmental Protection Agency (EPA).

ACTION: Withdrawal of direct final rule.

SUMMARY: On July 16, 2018, the Environmental Protection Agency (EPA) published a Notice of Intent for Partial Deletion and a direct final Notice of Partial Deletion for the Research Center Property (RCP) of the Beloit Superfund Site (Beloit Site) from the National Priorities List (NPL). EPA is withdrawing the direct final Notice of Partial Deletion because EPA did not provide timely notice of the publication of this rulemaking through publication of an advertisement in a local newspaper as required by EPA policy.

DATES: This withdrawal of the direct final action 83 FR 32798 (July 16, 2018) is effective as of September 14, 2018.

FOR FURTHER INFORMATION CONTACT: Randolph Cano, NPL Deletion Coordinator, U.S. Environmental Protection Agency Region 5 (SR-6J), 77 West Jackson Boulevard, Chicago, IL 60604, (312) 886-6036, or via email at cano.randolph@epa.gov.

SUPPLEMENTARY INFORMATION: On July 16, 2018, the EPA published a Notice of Intent for Partial Deletion (83 FR 32825) and a direct final Notice of Partial Deletion (83 FR 32798) for the Research Center Property (RCP) of the Beloit Superfund Site (Beloit Site) from the National Priorities List (NPL). After consideration of the comments received, if appropriate, EPA will publish a Notice of Partial Deletion in the Federal Register based on the parallel Notice of Intent for Partial Deletion and place a copy of the final partial deletion package, including a Responsiveness Summary, if prepared, in docket EPA-HQ-SFUND-1990-0011, accessed through the http://www.regulations.gov website and in the Beloit Site repositories.

Information Repositories: Comprehensive information on the Beloit Site, as well as the comments that we received during the comment period, are available in docket [EPA-HQ-SFUND-1990-0011], accessed through the http://www.regulations.gov website. Although listed in the docket index, some information is not publicly available, e.g., CBI or other information whose disclosure is restricted by statue. Certain other material, such as copyrighted material, will be publicly available only in hard copy. Publicly available docket materials are available either electronically in http://www.regulations.gov or in hard copy at:

U.S. Environmental Protection Agency, Region 5, Superfund Records Center, 77 West Jackson Boulevard, 7th Floor South, Chicago, IL 60604, Phone: (312) 886-0900, Hours: Monday through Friday, 8 a.m. to 4 p.m., excluding Federal holidays.

Talcott Free Library, 101 East Main Street, Rockton, IL 61072, Phone: (815) 624-7511, Hours: Monday, Tuesday and Thursday, 9 a.m. to 8 p.m., Wednesday and Friday 9 a.m. to 5:30 p.m., and Saturday 9 a.m. to 3 p.m.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: September 7, 2018.
James Payne,
Acting Regional Administrator, Region 5.

Accordingly, the amendment to Table 1 of Appendix B to 40 CFR part 300 to add a “P” in the Notes column in the entry “IL”, “Beloit Corp.”, “Rockton”, published on July 16, 2018 (83 FR 32798), is withdrawn as of September 14, 2018.

[FR Doc. 2018-20163 Filed 9-14-18; 8:45 am]

BILLING CODE 6560-50-P